DEPARTMENT OF HEALTH AND HUMAN SERVICES

National Institutes of Health

Submission for OMB Review; 30-Day Comment Request; Evaluation of Office of Acquisitions System (OASYS) and FFRDC Contract Administration System (FCAS) Vendor Portals National Cancer Institute (NCI)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Marla Jacobson, 9609 Medical Center Drive, MSC 9742, Rockville, MD 20850 or call non-toll-free number 240-276-5267 or Email your request, including your address to: marla.jacobson@nih.gov. Formal requests for additional plans and instruments must be requested in writing.

SUPPLEMENTARY INFORMATION: This proposed information collection was previously published in the Federal Register on May 19, 2021, page 27093 (Vol. 86 FR 27093) and allowed 60 days for public comment. No public comments were received. The National Cancer Institute (NCI), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Evaluation of Office of Acquisitions System (OASYS) and FFRDC Contract Administration System (FCAS) Vendor Portals National Cancer Institute (NCI), 0925-NEW, Expiration Date XX/XX/XXXX, NEW, National Cancer Institute (NCI), National Institutes of Health (NIH).

Need and Use of Information Collection: The National Cancer Institute (NCI) Office of Acquisitions (OA), located within the Office of the Director (OD) in the Office of Management (OM) at the National Cancer Institute (NCI), awards and administers contracts and simplified acquisitions in support of the Institute's mission to prevent, diagnose and treat cancer. During the acquisition process, the OA ensures that customer service is paramount, and communications are open and continuous. Currently requests and correspondence are sent to and received from vendors through email with the exception of the FFRDC Contractor who submits through the FCAS Vendor Portal which is in production. To streamline processes, increase transparency and gain efficiencies, the OA developed OASYS and FCAS vendor portals to replace processes that are handled through email (future OASYS Vendor Portal Users) and were (current FCAS Vendor Portal Users) to individual OA recipients. The FCAS Vendor Portal and in the future, the OASYS Vendor Portal will serve as a one-stop shop for transmission of requests, reports, deliverables and other correspondence due on numerous research and development, in support of R&D contracts as well as those contract vehicles awarded using various Federal Acquisition Procedures including but not limited to FAR Part 8, Required Sources of Supplies and Services, FAR Part 13, Simplified Acquisition Procedures, and FAR Part 12, Acquisition of Commercial Items. These reports and deliverables cover a wide variety of topics in the areas of cancer research including prevention, detection, diagnosis, and control.

OMB approval is requested for 3 years. There are no costs to respondents other than their time. The total estimated annualized burden hours are 232.

Estimated Annualized Burden Hours
Form name | Type of respondent | Number of respondents | Number of responses per respondent | Average time per response (in hours) | Total annual burden hours
Survey—OASYS | Individuals | 10 | 1 | 6/60 | 1
Survey—FCAS | Individuals | 1 | 1 | 6/60 | 1
Registration—OASYS | Corporations | 400 | 1 | 6/60 | 40
Registration—FCAS | Corporations | 1 | 1 | 6/60 | 1
Data Field Information—OASYS | Individuals | 400 | 18 | 1/60 | 120
Data Field Information—FCAS | Individuals | 61 | 63 | 1/60 | 64
Add/Edit new Vendor User—OASYS | Corporations | 40 | 1 | 6/60 | 4
Add/Edit new Vendor User—FCAS | Corporations | 6 | 1 | 6/60 | 1
Totals |  | 919 | 11,501 |  | 232

Dated: August 26, 2021.
Vivian Horovitch-Kelley,
Project Clearance Liaison, National Cancer Institute, National Institutes of Health.

[FR Doc. 2021-18767 Filed 8-30-21; 8:45 am]

BILLING CODE 4140-01-P